OFFICE OF PERSONNEL MANAGEMENT

Senior Executive Service-Performance Review Board

AGENCY: Office of Personnel Management.

ACTION: Notice.

SUMMARY: Notice is hereby given of the appointment of members of the OPM Performance Review Board.

FOR FURTHER INFORMATION CONTACT: Tammy Van Keuren, OPM Human Resources, Recruitment and Staffing, Office of Personnel Management, 1900 E Street NW., Washington, DC 20415, (202) 606-1402.

SUPPLEMENTARY INFORMATION: The Office of Personnel Management Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
John Berry,
Director.

The following have been designated as members of the Performance Review Board of the U.S. Office of Personnel Management:

Elizabeth A. Montoya, Chief of Staff;

Elaine Kaplan, General Counsel;

Jeffrey Sumberg, Associate Director;

Kathy Dillaman, Associate Director;

John O'Brien, Director of Healthcare and Insurance;

Joseph Kennedy, Deputy Associate Director;

Mark Reinhold, Deputy Associate Director for Human Resources—Executive Secretariat.

[FR Doc. 2010-28171 Filed 11-4-10; 8:45 am]

BILLING CODE 6325-39-P